Proclamation 10473 of October 7, 2022

Indigenous Peoples' Day, 2022

By the President of the United States of America

A Proclamation

On Indigenous Peoples' Day, we honor the sovereignty, resilience, and immense contributions that Native Americans have made to the world; and we recommit to upholding our solemn trust and treaty responsibilities to Tribal Nations, strengthening our Nation-to-Nation ties.

For centuries, Indigenous Peoples were forcibly removed from ancestral lands, displaced, assimilated, and banned from worshiping or performing many sacred ceremonies. Yet today, they remain some of our greatest environmental stewards. They maintain strong religious beliefs that still feed the soul of our Nation. And they have chosen to serve in the United States Armed Forces at a higher rate than any other group. Native peoples challenge us to confront our past and do better, and their contributions to scholarship, law, the arts, public service, and more continue to guide us forward.

I learned long ago that Tribal Nations do better when they make their own decisions. That is why my Administration has made respect for Tribal sovereignty and meaningful consultation with Tribal Nations the cornerstone of our engagement and why I was proud to restore the White House Council on Native American Affairs. To elevate Indigenous voices across our Government, I appointed Deb Haaland as Secretary of the Interior, the first Native American to serve as a cabinet secretary, along with more than 50 other Native Americans now in significant roles across the executive branch.

My Administration is also directly delivering for Native communities—creating jobs, providing critical services, and restoring and preserving sacred Tribal lands. We have made the biggest investment in Indian Country in history, securing billions for pandemic recovery, infrastructural improvements, and climate change resilience, and we are working together with Tribal Nations to end the scourge of violence against Indigenous women and girls.

These efforts are a matter of dignity, justice, and good faith. But we have more to do to help lift Tribal communities from the shadow of our broken promises, to protect their right to vote, and to help them access other opportunities that their ancestors were long denied. On Indigenous Peoples' Day, we celebrate indigenous history and our new beginning together, honoring Native Americans for shaping the contours of this country since time immemorial.

NOW, THEREFORE, I, JOSEPH R. BIDEN JR., President of the United States of America, do hereby proclaim October 10, 2022, as Indigenous Peoples' Day. I call upon the people of the United States to observe this day with appropriate ceremonies and activities. I also direct that the flag of the United States be displayed on all public buildings on the appointed day in honor of our diverse history and the Indigenous peoples who contribute to shaping this Nation.

IN WITNESS WHEREOF, I have hereunto set my hand this seventh day of October, in the year of our Lord two thousand twenty-two, and of the Independence of the United States of America the two hundred and forty-seventh.

[FR Doc. 2022-22410

Filed 10-12-22; 8:45 am]

Billing code 3395-F3-P